FEDERAL COMMUNICATIONS COMMISSION

47 CFR Part 76

[MM Docket No. 92-264; DA 05-1723]

Cable Television Horizontal and Vertical Ownership Limits

AGENCY: Federal Communications Commission.

ACTION: Notice, extension of comment period.

SUMMARY: In this Order, the Media Bureau extends the comment and reply comment period in this proceeding, which seeks comment on the Commission's horizontal and vertical cable ownership limits. The deadline to file comments is extended from July 8, 2005, to August 8, 2005, and the deadline to file reply comments is extended from July 25, 2005, to September 9, 2005. The action is taken in response to a Motion for Extension of Time.

DATES: Comments are due on or before August 8, 2005; and reply comments are due on or before September 9, 2005.

ADDRESSES: You may submit comments, identified by MM Docket No. 92-264, by any of the following methods:

• Federal eRulemaking Portal: http://www.regulations.gov. Follow the instructions for submitting comments.

• Federal Communications Commission's Web site: http://www.fcc.gov/cgb/ecfs/. Follow the instructions for submitting comments.

• People with Disabilities: Contact the FCC to request reasonable accommodations (accessible format documents, sign language interpreters, CART, etc.) by e-mail: FCC504@fcc.gov or telephone: 202-418-0530 or TTY: 202-418-0432.

For detailed instructions for submitting comments and additional information on the rulemaking process, see the SUPPLEMENTARY INFORMATION section of this document.

FOR FURTHER INFORMATION CONTACT: Royce Sherlock, Industry Analysis Division, Media Bureau, (202) 418-2330 or Royce.Sherlock@fcc.gov; or Patrick Webre, Industry Analysis Division, Media Bureau, (202) 418-7953 or Patrick.Webre@fcc.gov.

SUPPLEMENTARY INFORMATION: This is a synopsis of the Commission's Order in MM Docket No. 92-264, released June 22, 2005. The full text of the Order is available for inspection and copying Monday through Thursday from 8 a.m. to 4:30 p.m. and Friday from 8 a.m. to 11:30 a.m. in the Commission's Consumer and Governmental Affairs Bureau, Reference Information Center, Room CY-A257, Portals II, 445 12th Street, SW., Washington, DC 20554. The complete text is also available on the Commission's Internet Site at http://www.fcc.gov. To request materials in accessible formats for people with disabilities (electronic files, large print, audio format and Braille), send an e-mail to fcc504@fcc.gov or call the Consumer & Governmental Affairs Bureau at (202) 418-0530 (voice), (202) 418-0432 (TTY). The complete text of the Order may also be purchased from the Commission's copy contractor, Best Copy and Printing, Inc., Portals II, 445 12th Street, SW., Room CY-B402, Washington, DC 20554, telephone (202) 488-5300 or (800) 378-3160, e-mail http://www.BCPIWEB.com.

Synopsis of the Order

1. On May 17, 2005, the Commission released its Second Further Notice of Proposed Rulemaking (“Second Further Notice”) in the above-captioned proceeding.¹ The deadlines to file comments and reply comments were originally set as July 8, 2005, and July 25, 2005, respectively.

¹ 70 FR 33680 (rel. June 8, 2005).

2. On June 10, 2005, the Media Access Project, filing on behalf of itself and other consumer groups, religious organizations and citizens groups (“MAP”), requested an extension of time until August 8, 2005, to file comments in response to the Second Further Notice, and until September 9, 2005, to file reply comments. MAP states that more time is needed because the Second Further Notice asks complex and detailed questions that would require extensive research and analysis to answer; public interest organizations have significant limits on their resources, preventing them from responding to such complex questions in a short period of time; and other conflicting commitments, including other proceedings, make the initial deadline impossible to meet for these groups.

3. It is the policy of the Commission that extensions of time are not routinely granted. However, there is good cause to extend the comment and reply comment deadlines. The Second Further Notice seeks comment on a broad range of proposals in the record, as well as recent developments in the industry, and the Commission has invited parties to undertake their own studies to further inform the record. In view of the complex and detailed questions and issues set forth in the Second Further Notice, and to assure the fullest possible public participation so that we can assemble a record that will help us to resolve the difficult issues in this proceeding, we find it appropriate to grant MAP's extension request and extend the deadlines for initial and reply comments to August 8, 2005, and September 9, 2005, respectively.

4. Accordingly, it is ordered that MAP's Request for Extension of Time to File Comments and Reply Comments in the above-captioned proceeding is granted.

5. It is further ordered that, pursuant to Sections 4(i), 4(j) and 5(c) of the Communications Act of 1934, as amended, 47 U.S.C. 154(i), 154(j) and 155(c), and Sections 0.61, 0.283, and 1.46 of the Commission's rules, 47 CFR 0.61, 0.283, and 1.46, the date for filing initial comments in MM Docket No. 92-264 is extended until August 8, 2005, and the date for filing reply comments is extended to September 9, 2005.

List of Subjects in 47 CFR Part 76

Cable Television.

Federal Communications Commission.
Royce Sherlock,
Chief, Industry Analysis Division.

[FR Doc. 05-13148 Filed 7-5-05; 8:45 am]

BILLING CODE 6712-01-P